DEPARTMENT OF LABOR

Employment and Training Administration

[TA-W-38,461 and NAFTA-4357]

Oxford Automotive, Argos, Indiana; Notice of Negative Determination Regarding Application for Reconsideration

By application of February 1, 2001, the International Union, United Automobile, Aerospace & Agricultural Implement Workers of America (UAW), Local 2088, request administrative reconsideration of the Department's negative determination regarding eligibility for workers and former workers of the subject firm to apply for Trade Adjustment Assistance (TAA) and North American Free Trade Agreement-Transitional Adjustment Assistance (NAFTA-TAA). The denial notices applicable to workers of Oxford Automotive, Argos, Indiana, were signed on January 24, 2001. The TAA decision will soon be published in the Federal Register. The notice for the NAFTA-TAA decision was published in the Federal Register on February 20, 2001 (66 FR 10917).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers producing side panels for vehicles in Argos, Indiana, was denied because the “contributed importantly” criterion of the group eligibility requirements of Section 222 of the Trade Act of 1974, as amended, was not met. The primary customer of the subject firm is going to produce the side panels at their own U.S. plants and ceased doing business with Oxford Automotive.

The NAFTA-TAA petition for the same worker group was defined because criteria (3) and (4) of the group eligibility requirements in paragraph (a)(1) of section 250 of the Trade Act, as amended, were not met. There were no company or customer imports from Mexico or Canada of side panels for vehicles. The subject firm did not shift the production of side panels for vehicles from Argos, Indiana to Mexico or Canada.

The petitioner provided a copy of a memorandum dated August 1, 2000, addressed to Local 2988 from an individual (title not provided), notifying the Union of equipment that will be moving to another Oxford Automotive location, or a request for equipment from another Oxford Automotive location. In that listing, it is noted that authorization was being sought to move the 180″ press line and two single post spot welders to Mexico.

During the investigation that information was available and the Department found that some of the machinery was sent to Mexico but it was not being used. The shift of production of equipment to Mexico or Canada, or any other foreign country, does not in of itself provide a basis for worker group certification under TAA or NAFTA-TAA. With respect to the TAA petition, the Department could issue a certification only if the equipment shifted is being used to produce the articles and replace the production at the workers' firm and that there are increases in imports of articles like or directly competitive with side panels for vehicles produced on that machinery. With respect to the NAFTA-TAA petition, the Department could issue a certification only if the equipment shifted is being used to produce the articles and replace the production at the workers' firm. This is not the case for the petitioning workers, as was described in the initial findings.

Conclusion

After review of the application and investigative findings, I conclude that there has been no error or misinterpretation of the law or of the facts which would justify reconsideration of the Department of Labor's prior decisions. Accordingly, the application is denied.

Signed at Washington, DC, this 30th day of April, 2001.
Linda G. Poole,
Certifying Officer, Division of Trade Adjustment Assistance.

[FR Doc. 01-11628 Filed 5-8-01; 8:45 am]

BILLING CODE 4510-30-M